DEPARTMENT OF LABOR

Employment and Training Administration

[NAFTA-5868]

Alcoa Wheel Products, Alcoa Wheel and Forged Products, Lebanon, VA; Notice of Termination of Investigation

Pursuant to Title V of the North American Free Trade Agreement Implementation Act (Pub. L. 103-182) concerning transitional adjustment assistance, hereinafter called (NAFTA-TAA), and in accordance with section 250(a), subchapter D, chapter 2, Title II, of the Trade Act of 1974, as amended (19 U.S.C. 2273), an investigation was initiated on February 13, 2002, in response to a petition filed by the United Steelworkers of America (Local 1305), on behalf of workers at Alcoa Wheel Products, Alcoa Wheel and Forged Products, Lebanon, Virginia.

The petitioners requested that the petition for NAFTA-TAA be withdrawn. Consequently, further investigation in this case would serve no purpose, and the investigation has been terminated.

Signed at Washington, DC this 17th day of April, 2002.
Linda G. Poole,
Certifying Officer, Division of Trade Adjustment Assistance.

[FR Doc. 02-12398 Filed 5-16-02; 8:45 am]

BILLING CODE 4510-30-M